DEPARTMENT OF LABOR

Employment and Training Administration

[TA-W-54,145]

The Boeing Company, Commercial Aircraft Division, Puget Sound, Washington And Spokane, Washington, Portalnd, Oregon and Wichita, Kansas; Notice of Termination of Investigation

Pursuant to section 221 of the Trade Act of 1974, as amended, an investigation was initiated on February 2, 2004 in response to a worker petition filed by the Aerospace Machinists Industrial Local 751 on behalf of workers at the above locations of The Boeing Company, Commercial Aircraft Division.

The petitioning group of workers is covered by an earlier petition filed on January 29, 2004 (TA-W-54,114) that is the subject of an ongoing investigation for which a determination has not yet been issued. Further investigation in this case would duplicate efforts and serve no purpose; therefore the investigation under this petition has been terminated.

Signed at Washington, DC, this 5th day of February 2004.
Richard Church,
Certifying Officer, Division of Trade Adjustment Assistance.

[FR Doc. E4-386 Filed 2-24-04; 8:45 am]

BILLING CODE 4510-13-P